DEPARTMENT OF STATE

[Public Notice: 11681]

Determination Under Section 552(C)(2) of the Foreign Assistance Act of 1961 To Provide Commodities and Services for Assistance to the Lebanese Armed Forces

Pursuant to the authority vested in me by section 552(c)(2) of the Foreign Assistance Act of 1961 (FAA) (22 U.S.C. 2348a(c)(2)) and Presidential Delegation of Authority dated September 7, 2021, I hereby determine that, as the result of an unforeseen emergency, the immediate provision of assistance under chapter 6 of part II of the FAA in amounts in excess of funds otherwise available for such assistance is important to the national interests of the United States.

I, therefore, direct the drawdown of up to $25 million in commodities and services from the inventory and resources of any agency of the U.S. government under the authority of section 552(c)(2) of the FAA to provide immediate assistance to the Lebanese Armed Forces. The Department of State will coordinate implementation of this drawdown. This determination shall be reported to Congress and published in the Federal Register.

Dated: September 22, 2021.
Antony J. Blinken,
Secretary of State.

Editorial note: This document was received for publication by the Office of the Federal Register on March 11, 2022.

[FR Doc. 2022-05592 Filed 3-16-22; 8:45 am]

BILLING CODE 4710-25-P